DEPARTMENT OF COMMERCE

National Oceanic and Atmospheric Administration

50 CFR Part 660

[Docket No. 070404078-7078-01; I.D. 082806B]

RIN 0648-AV52

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to groundfish management measures; request for comments.

SUMMARY: This final rule takes two actions: It establishes the 2007 harvest specifications for Pacific whiting (whiting) in the U.S. exclusive economic zone (EEZ) and state waters off the coasts of Washington, Oregon, and California; and, it announces inseason changes to management measures in the commercial and recreational Pacific Coast groundfish fisheries. These actions are authorized by the Pacific Coast Groundfish Fishery Management Plan (FMP). The 2007 whiting harvest specifications include the level of the acceptable biological catch (ABC), optimum yield (OY), tribal allocation, and allocations for the non-tribal commercial whiting sectors, and are intended to establish allowable harvest levels of whiting based on the best available scientific information. The inseason changes to fishery management measures are intended to allow fisheries to access more abundant groundfish stocks while protecting overfished and depleted species, and to reduce possible confusion to the public over differing state and Federal regulations.

DATES: Effective April 17, 2007. Comments on this rule must be received no later than 5 p.m., local time on May 18, 2007.

ADDRESSES: You may submit comments, identified by I.D. 082806B by any of the following methods:

• E-mail: WhitingABCOYInseason1.nwr@noaa.gov. Include I.D. 082806B in the subject line of the message.

• Federal eRulemaking Portal: http://www.regulations.gov. Follow the instructions for submitting comments.

• Fax: 206-526-6736, Attn: Gretchen Arentzen

• Mail: D. Robert Lohn, Administrator, Northwest Region, NMFS, 7600 Sand Point Way NE, Seattle, WA 98115-0070, Attn: Gretchen Arentzen.

FOR FURTHER INFORMATION CONTACT: Gretchen Arentzen (Northwest Region, NMFS), phone: 206-526-6147, fax: 206-526-6736 and e-mail gretchen.arentzen@noaa.gov; or Becky Renko (Northwest Region, NMFS), phone: 206-526-6110 fax: 206-526-6736 and e-mail becky.renko@noaa.gov.

SUPPLEMENTARY INFORMATION:

Electronic Access

This final rule is accessible via the Internet at the Office of the Federal Register's Web site at http://www.gpoaccess.gov/fr/index.html. Background information and documents are available at the Pacific Fishery Management Council's (Council's) Web site at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Council, and are implemented by NMFS. A proposed rulemaking to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures were codified in the CFR (50 CFR part 660, subpart G). The final rule was subsequently amended on March 20, 2007 via a correcting amendment (71 FR 13043).

Changes to current groundfish management measures implemented by this action were recommended by the Council, in consultation with Pacific Coast Treaty Indian Tribes and the States of Washington, Oregon, and California, at its March 5-9, 2007, meeting in Sacramento, California. The Council recommended changes to current regulations pertaining to two separate actions: (1) Setting the final 2007 ABC and OY values for the Pacific coast whiting fishery and the 2007 tribal allocation of whiting; and (2) adjusting current groundfish management measures to respond to updated fishery information and other inseason management needs.

Pacific Whiting Specifications for 2007

In November 2003, the United States and Canada signed an agreement regarding the conservation, research, and catch sharing of whiting. The whiting catch sharing arrangement that was agreed upon provides 73.88 percent of the total catch OY to the U.S. fisheries and 26.12 percent to the Canadian fisheries. At this time, both countries are taking steps to fully implement this agreement. Until this occurs, the negotiators recommended that each country apply the agreed upon provisions to their respective fisheries.

In anticipation of the ratification of the U.S.-Canada agreement, a new stock assessment, and given the small amount of whiting that is typically landed under trip limits prior to the April 1 start of the primary season, the Council adopted a range for OY and ABC in the 2007-2008 specifications, and delayed adoption of final 2007 and 2008 ABC and OY until its March 2007 and 2008 meetings, respectively. To date, the international agreement has not yet been ratified by the United States, but the implementing legislation was recently signed into law on January 12, 2007. The ABC and OY values recommended by the Council as final ABC and OY values for 2007 are based on the 2007 stock assessment, and their impacts are within the scope of impacts considered in the EIS for the 2007 and 2008 management measures. The whiting OY being implemented in this rule, and the resulting allocations among the sectors, is reduced by approximately 10 percent from the 2006 OY.

Pacific Whiting Stock Status

In general, whiting is a very productive species with highly variable recruitment (the biomass of fish that mature and enter the population and/or fishery each year) and a relatively short life span when compared to other groundfish species. In 1987, the whiting biomass was at a historically high level due to an exceptionally large number of fish that recruited into the population in 1980 and 1984 (fish recruited during a particular year are referred to as year classes). As these large year classes of fish passed through the population and were replaced by moderate sized year classes, the stock declined. The whiting stock stabilized between 1995 and 1997, but then declined to its lowest level in 2001. After 2001, the whiting biomass increased substantially as a strong 1999 year class matured and entered the spawning population. The 1999 year class has now reached its peak biomass level and is declining, and in the absence of additional strong year classes the stock is expected to decline in the near term even in the absence of fishing.

The joint US-Canada Stock Assessment Review (STAR) panel met February 5-9, 2007, to review the whiting stock assessment prepared jointly by scientists from the NMFS Northwest Fisheries Science Center and the University of British Columbia Fisheries Centre. The STAR panel accepted two equally plausible assessment models that consider uncertainty in the relative d epletion level and stock productivity.

As in 2006, the amount of whiting that the hydroacoustic survey was able to measure relative to the total amount of whiting in the surveyed area (acoustic survey catchability coefficient, or q) was identified as a major source of uncertainty in the new stock assessment. Because of this uncertainty, two models were presented to bracket the range of uncertainty in q: The base model with a fixed value of q=1, representing the lower range of biomass and ABC/OY estimates; and the alternative model (using an informative prior) to arrive at q=0.7, which results in an upward scaling of both biomass and ABC/OY estimates. Uncertainty regarding the true value of q has been a major issue with whiting stock assessments in recent years, and as a precautionary measure the Council has based whiting ABCs from the last several assessments on models where q=1.

Using the base model, q=1, the whiting stock biomass at the end of 2006 was estimated to be at 36 percent of its unfished biomass and at 44 percent of its unfished biomass with the alternative model, q=0.7. As no strong year classes have been observed since 1999, the whiting biomass is projected to decline in the near future. Data from the 2005 hydroacoustic survey suggested a moderately strong 2003 year class; however current recruitment estimates from fishery-dependent indices predict that the 2003 recruitment will be below the mean. Current estimates, while not validated with a hydroacoustic survey, predict larger 2004 recruitment than for surrounding years. If these year classes are stronger than currently projected, the recent downward trend in whiting biomass could stabilize.

The steepness of the stock-recruitment relationship (the proportion of young fish entering the population in relation to the number of adult fish) in the 2007 assessment was estimated to be 0.75. This is the same value that was used in 2006 when it was redefined in the 2006 assessment, whereas a value of 1 was used in 2005. Assuming a steepness of 1 implies that the spawning biomass level has no influence on the number of recruits produced in any given year, which may result in overly optimistic projections. Reducing the steepness to 0.75 increases the dependency of recruitment on the number of adult fish in the population. Based on its review, the SSC endorsed the use of both models in setting 2007 ABCs and OYS.

The U.S. implementing legislation and the U.S.-Canada agreement provisions include the use of a default harvest rate of F40. A harvest rate of F40 can be explained as that which reduces spawning potential per female to 40 percent of what it would have been without fishing mortality. The selection of the F40 value was based on an analysis of stock and recruitment data for other whiting (hake) species. However, because the whiting stock is projected to fall below the overfished threshold if managed with a harvest rate of F40, primarily due to the highly variable recruitment characteristic of the stock, the SSC noted that use of a control rule that allows for maximized yield may be inconsistent with the need to prevent whiting from falling below the overfished threshold.

The range of U.S. ABCs and OYs considered by the Council and analyzed in the EIS for 2007 and 2008 included: A low ABC of 244,425 mt and a high ABC of 733,275 mt (50 percent and 150 percent, respectively, of the 2006 U.S. ABC of 488,850); and a low OY of 134,534 mt and a high OY of 403,604 mt (50 percent and 150 percent, respectively, of the 2005/2006 U.S. OY of 269,069). These broad ranges in whiting harvest levels were analyzed in order to assess the potential range of the effects of the whiting fishery on incidentally-caught overfished species and the economic effects to coastal communities.

At its March 5-9, 2007, meeting in Sacramento, CA, the Council reviewed the results of the new whiting stock assessment and recommended adopting a U.S.-Canada coastwide ABC of 612,068 mt (results in a U.S. ABC of 452,196 mt) based on the q=1 assessment model. Because the whiting biomass is estimated to be below 40 percent of its unfished biomass, the 40-10 adjustment was applied as specified in the Pacific Coast Groundfish FMP, the U.S.-Canada agreement, and the Pacific Whiting Act of 2006. With the 40-10 adjustment, the U.S.-Canada coastwide OY was 575,090 mt with the q=1 model, and 878,670 mt with the q=0.7 model. The potential OYs with the 40-10 adjustment were considered by the Council to be too high during a time when the stock biomass is in decline. The 40-10-based OY for the q=1 model was projected to result in the stock biomass falling below the overfished threshold of 25 percent of unfished biomass by 2008. The 40-10-based OY for the q=0.7 model was projected to result in the stock biomass falling below the overfished threshold by 2009. Given the potential impact on future stock biomass levels and as contemplated by the Pacific Whiting Act of 2006, the Council considered a more conservative range of U.S.-Canada coastwide OYs.

Following discussion and public testimony, the Council recommended adopting a U.S.-Canada coastwide OY of 328,358 mt, which corresponds to a U.S. OY of 242,591 mt according to the international allocation in the U.S.-Canada agreement. The 2007 U.S. OY is almost 10 percent less than the 2006 OY (269,069 mt), as a precautionary response to the declining trend in stock biomass, no strong year class available for the 2007 fishery, and continuing uncertainty in the model relative to the parameter q. With a constant harvest rate corresponding to the 2007 U.S. OY of 242,591 mt, the stock biomass level is projected to drop below the overfished level (B25, or 25 percent of estimated unfished biomass) by 2009 if q=1 is the true state of nature; however, the biomass would remain near 30 percent of the unfished level through 2009 if q=0.7 is the true state of nature. When the results of both models are combined and given equal weighting, the 2009 depletion level is projected to be slightly above the overfished level. Because whiting stock assessments are prepared annually and OYs adjusted annually, the risk of reaching an overfished condition is reduced. A new stock assessment will be prepared prior to the 2008 fishing year and will provide an opportunity to further adjust harvest levels in response to new assessment information. The 2008 assessment will be informed with results from the 2007 hydroacoustic survey (the 2007 assessment used results from the 2005 hydroacoustic survey which is conducted every other year) and will further investigate the appropriateness of model parameters, harvest rates proxies, and year class strength.

Allocations

In 1994, the United States formally recognized that the four Washington coastal treaty Indian tribes (Makah, Quileute, Hoh, and Quinault) have treaty rights to fish for groundfish in the Pacific Ocean. In general terms, the quantification of those rights is 50 percent of the harvestable surplus of groundfish that pass through the tribes' usual and accustomed fishing areas (described at 50 CFR 660.324).

The Pacific Coast Indian treaty fishing rights, described at 50 CFR 660.324 and 660.385, provide for the allocation of groundfish to the tribes through the specifications and management measures process. A tribal allocation is subtracted from the species' OY before limited entry and open access allocations are derived. The tribal whiting fishery is a separate fishery, and is not governed by the limited entry or open access regulations or allocations. To date, only the Makah Tribe has participated. The Makah Tribe regulates, and in cooperation with NMFS, monitors this fishery so as not to exceed the tribal allocation.

Beginning in 1999, NMFS set the tribal allocation according to an abundance-based sliding scale method, proposed by the Makah Tribe in 1998 (see 64 FR 27928, May 24, 1999; 65 FR 221, January 4, 2000; and 66 FR 2338, January 11, 2001). Details on the abundance-based sliding scale allocation method and related litigation were discussed in the preamble to the proposed rule to implement the 2005-2006 groundfish specifications and management measures and are not repeated here. On December 28, 2004, the Ninth Circuit Court of Appeals upheld the sliding scale approach in Midwater Trawler's Cooperative v. Daley, 393 F. 3d 994 (9th Cir. 2004). Under the sliding scale allocation method, the tribal allocation varies with the U.S. whiting OY, ranging from a low of 14 percent (or less) of the U.S. OY when OY levels are above 250,000 mt, to a high of 17.5 percent of the U.S. OY when the OY level is at or below 145,000 mt. For 2007, using the sliding scale allocation method, the tribal allocation will be 32,500 mt. The Makah Tribe is the only Washington Coast tribe that requested a whiting allocation for 2007. The tribal fleet is comprised of five midwater trawlers who deliver to shoreside plants and to one at-sea mothership.

The 2007 commercial OY (non-tribal) for whiting is 208,091 mt. This is calculated by deducting the 32,500 mt tribal allocation and 2,000 mt for research catch and bycatch in non-groundfish fisheries from the 242,591 mt U.S. OY. Regulations at 50 CFR 660.323(a)(2) divide the commercial OY into separate allocations for the non-tribal catcher/processor, mothership, and shore-based sectors of the whiting fishery and the specific values are found in tables 1a and 2a to part 660 subpart G.

The catcher/processor sector is comprised of vessels that harvest and process whiting at sea (the fleet has typically been six to nine vessels annually since the formation of the Pacific Whiting Conservation Cooperative in 1997). The mothership sector is comprised of motherships and catcher vessels that harvest whiting for delivery to motherships that process the whiting at sea (typically three-six motherships operate in the fishery with one mothership also servicing the tribal fleet). Motherships are vessels that do not harvest, but process the whiting at sea. The shoreside sector is comprised of vessels that harvest whiting for delivery to shoreside processors (in recent years, the number of participating vessels has ranged from 29 to 37 vessels, some of which also service the non-tribal mothership sector). Each sector receives a portion of the non-tribal commercial OY, with the catcher/processors receiving 34 percent (70,751 mt), the mothership sector receiving 24 percent (49,942 mt), and the shoreside sector receiving 42 percent (87,398 mt), amounts that are roughly an 11% reduction from 2005 and 2006 levels.

It should also be noted that whiting is not the only fishery that these vessels depend on. Shoreside vessels typically participate in other fisheries, such as non-whiting groundfish, crab, and shrimp fisheries. Mothership and catcher-processor vessels typically participate in the Alaska pollock fishery.

All whiting caught in 2007 before the effective date of this action will be counted against the new 2007 OY. As in the past, the specification include fish caught in state ocean waters (0-3 nautical miles (nm) offshore) as well as fish caught in the EEZ (3-200 nm offshore).

Inseason Adjustments to Fishery Management Measures

The Pacific Coast Groundfish FMP and its implementing regulations at 50 CFR part 660, subpart G, provide for routine management measures to be used for inseason management of the Pacific coast groundfish fishery. The changes to current groundfish management measures implemented by this action were recommended by the Council, in consultation with Pacific Coast Treaty Indian Tribes and the States of Washington, Oregon, and California, at its March 5-9, 2007, meeting in Sacramento, CA. At that meeting the Council recommended changes to management measures in response to three primary concerns: (1) Higher than expected canary rockfish bycatch rates in the non-whiting limited entry trawl fishery north of 40°10.00′ N. lat. based on newly-available scientific information; (2) higher than expected catch of petrale sole in the limited entry trawl fishery; and (3) the need for state and Federal groundfish regulations to conform in order to minimize confusion for the public. To address these concerns, the Council recommended the following revisions to groundfish management measures: (1) Close the areas shoreward of the trawl Rockfish Conservation Area (RCA) north of Cape Alava and between Capa Arago and Humbug Mountain beginning April 1; (2) adjust the shoreward boundary of the trawl RCA to a line approximating the 60-fm (110-m) contour between Leadbetter Point and the Oregon-Washington border from April 1 through October 31; (3) adjust the seaward boundary of the trawl RCA to a line approximating the 150-fm (274-m) contour north of Cascade Head and to a line approximating the 200-fm (366-m) contour south of Cascade Head beginning April 1 through August 31; (4) adjust the seaward boundary of the trawl RCA to the petrale-modified line approximating the 200-fm (366-m) contour, coastwide, from November 1 through December 31; (5) north of 40°10.00′ N. lat., increase cumulative limits for lingcod and shortspine thornyhead taken with large and small footrope trawl gear, and south of 40°10.00′ N. lat., increase cumulative limits for lingcod taken with large footrope and midwater trawl gear; (6) north of 40°10.00′ N. lat., decrease cumulative limits for selective flatfish trawls for sablefish, Dover sole, and petrale sole beginning May 1; (7) combine cumulative limited entry trawl limits for Other Flatfish and arrowtooth flounder coastwide beginning May 1; (8) north of 40°10.00′ N. lat., reduce cumulative limits for slope rockfish for all trawl gears beginning May 1; (9) reduce cumulative limits for petrale sole using large and small footrope trawl gears coastwide beginning May 1; and (10) adjust Federal regulations to conform with Washington recreational fishery management measures to prohibit the retention of groundfish seaward of a line approximating the 20-fm (37-m) contour from May 21 through September 30, in the area from the U.S. border with Canada to the Queets River, WA (47°31.70′ N. lat.), except on days when the Pacific halibut fishery is open in this area, and prohibit the retention of groundfish seaward of a line approximating the 30-fm (55-m) contour from March 17 through June 15, in the area between the Queets River and Leadbetter Point, except that retention of sablefish and Pacific cod is allowed from May 1 through June 15.

Overfished Species Bycatch Limits in the Pacific Whiting Fishery

The availability of overfished species as incidental catch, particularly canary rockfish, darkblotched rockfish, and widow rockfish, may prevent the industry from harvesting the entire whiting OY during 2007. To allow the industry to have the opportunity to harvest the higher whiting OY while keeping incidental catch within the rebuilding OYs for the incidental species, the Council recommended bycatch limits for the overfished species most commonly taken as incidental catch in the whiting fishery. With bycatch limits, the industry has the opportunity to harvest a larger amount of whiting, if they can do so while keeping the incidental catch of specific overfished species within adopted bycatch limits. Regulations provide for the automatic closure of the commercial (non-tribal) portion of the whiting fishery upon attainment of a bycatch limit.

In recent years, the most constraining overfished species for the whiting fishery have been darkblotched, canary and widow rockfish. Prior to this final rule, regulations at 50 CFR 660.373 (b)(4) contained the following bycatch limits for the commercial sectors (non-tribal) of the whiting fishery: 4.7 mt for canary, 200 mt for widow, and 25 mt for darkblotched rockfish.

At the March 2007 Council meeting, the Council's groundfish management team (GMT) examined the 2007 whiting OY alternatives in relation to the potential bycatch of overfished species. With a U.S. OY of 242,591 mt and in the absence of any further restrictions, the bycatch of canary rockfish was projected to be approximately 3.9 mt, the bycatch of widow rockfish was projected to be approximately 217 mt, and the bycatch of darkblotched rockfish was projected to be approximately 12.4 mt. After considering the projected catch of overfished species in all other fishing and research activities, the Council recommended that the canary and darkblotched rockfish bycatch limits for the whiting fishery remain at 4.7 mt and 25 mt, respectively, which were the same limits that were available during the 2006 primary whiting season. To accommodate current incidental catch projections for the non-tribal whiting fishery, the Council recommended the widow rockfish bycatch limit be raised to 220 mt, the same bycatch limit that was in effect at the end of 2006. With this increase, the 2007 estimated total catch of widow rockfish is still predicted to be well below the 2007 widow rockfish OY of 368 mt.

Limited Entry Trawl Fishery Management Measures

At its March 2007 meeting, the Council received new data and analyses on the catch of groundfish in the limited entry trawl fishery. The Council's recommendations for revising 2007 trawl fishery management measures focused on modifying the RCA boundary lines and trip limits to move vessels away from areas where canary rockfish most commonly co-occur with more abundant groundfish stocks, limiting the resulting effects of the movement of the fleet on darkblotched rockfish, and reducing the availability of petrale sole early in 2007 in order to better ensure that petrale sole is available for harvest later in the 2007 fishing year.

According to the most recently available West Coast Groundfish Observer Program (WCGOP) data, released in late January, 2007, bycatch rates for canary rockfish using selective flatfish trawl gear north of 40°10.00′ N. lat. were much higher in 2005 than had been anticipated. By applying these new bycatch rates to landings of target species in the existing fishery bycatch model, NMFS concluded that the 2005 canary rockfish OY had been exceeded by 2 mt. While estimated 2006 total catch of canary rockfish has yet to be determined, higher than anticipated bycatch rates in the north by selective flatfish trawls would be expected to continue in 2006. Based on 2005 WCGOP data indicating higher canary rockfish bycatch rates using selective flatfish trawls north of 40°10.00′ N. lat., NMFS believes that the canary rockfish OY could be exceeded in 2007 under status quo regulations. The 2007 regulatory measures were developed assuming a canary rockfish bycatch rate that now has been determined to be too low, which results in an underestimate in the predicted impacts to canary rockfish. In order to keep catch levels within the canary rockfish OY, inseason adjustments are necessary to constrain incidental canary rockfish catch in the limited entry non-whiting trawl fishery.

The Council considered several short term options available to reduce impacts on canary rockfish in the non-whiting limited entry trawl fishery north of 40°10.00′ N. lat. to harvest levels initially projected for the fisheries during development of the 2007 management measures: (1) The modification of trawl cumulative limits; (2) modifications of the trawl RCA boundaries; and (3) the use of management area boundaries and commonly used geographic coordinates, defined at 50 CFR 660.302 under “North-South management area”, to provide more area-specific management measures on portions of the coast with differential canary rockfish bycatch rates. For the longer term, the Council discussed the development of other tools, such as more refined area closures, similar to the yelloweye rockfish RCAs, but concluded that implementing these types of closures would not be routine management measure changes under either the FMP at 6.2.D or Federal regulations at 50 CFR 660.370(c).

Based on analysis of 2005 WCGOP data, the areas of the coast with highest bycatch rate of canary rockfish relative to target species taken in the non-whiting trawl fishery are: The area shoreward of the trawl RCA north of Cape Alava (48°10.00′ N. lat.) to the U.S./Canada boundary; the area shoreward of the trawl RCA between Leadbetter Point (46°38.17′ N. lat.) and the Oregon/Washington border (46°16.00′ N. lat.); and the area shoreward of the trawl RCA between Cape Arago (43°20.83′ N. lat.) and Humbug Mountain (42°40.50′ N. lat.). The Council considered several combinations of available management measures and looked at the projected impact of these measures on the resource and the fishery. In order to keep projected impacts of the non-whiting trawl fishery on canary rockfish within the 2007 OY, and to allow fishing opportunities in geographic areas with low canary rockfish bycatch, several modifications were recommended to the limited entry non-whiting trawl fishery regulations, including: (1) Modify the trawl RCA boundaries; (2) close two areas of the coast shoreward of the trawl RCA; (3) reduce cumulative limits for some species using selective flatfish trawl gear; (4) combine arrowtooth and Other Flatfish into a flatfish species group with a single, reduced cumulative limit; and (5) increase opportunities for lingcod and shortspine thornyheads in areas seaward of the trawl RCA.

Rockfish Conservation Area Boundaries

The Council determined that, in order to constrain the incidental catch of canary rockfish and to prevent exceeding the 2007 canary rockfish OY, the limited entry trawl RCA north of 40°10.00′ N. lat. should be expanded shoreward, so that the RCA's shoreward boundary is no deeper than a line approximating the 75-fm (137-m) contour for the entire year. This RCA expansion is expected to have a dual effect of eliminating fishing opportunity in areas with trawl efforts exhibiting higher canary rockfish bycatch rates, as well as shifting fishing effort to areas exhibiting relatively lower canary rockfish bycatch rates. The Council also considered a more refined modification of the shoreward RCA boundaries in areas north of 40°10.00′ N. lat. that would close or substantially restrict areas with the highest bycatch rates, as identified from WCGOP data. The areas of highest canary rockfish bycatch rates included: The area shoreward of the RCA north of Cape Alava; the area shoreward of the RCA between Leadbetter Point and the Washington/Oregon border; and the area shoreward of the RCA between Cape Arago and Humbug Mountain. The Council's Groundfish Management Team (GMT) analyzed the effect of relatively greater restrictions in these three areas and, based on that analysis, recommended closing the shoreward area north of Cape Alava, closing the shoreward area between Cape Arago and Humbug Mountain, and expanding the shoreward boundary of the trawl RCA to a line approximating the 60-fm (110-m) contour during the summer in the area between Leadbetter Point and the Oregon/Washington border. The Council also considered various alternatives that would leave the area shoreward of the RCA and north of Cape Alava open during winter months to reduce the disproportionate impact this closure would have on vessels based in northern Washington. However, the necessary reductions in cumulative trip limits required to keep this area open would make trawling with selective flatfish gear not economically viable for many participants in the non-whiting trawl fishery. The Council also considered the potential impacts of interaction with soft-shelled crab as trawl effort is shifted to areas closer to shore between Leadbetter Point and the Oregon/Washington border during summer months. The line approximating the 60-fm (110-m) depth contour is farther offshore in this area and GMT analysis suggested that interactions between groundfish trawlers and soft-shelled crab would be minimal if a 60-fm (110-m) shoreward boundary were put in place. In order to reduce economic impacts on vessels that formerly operated in the nearshore fishing areas, the Council supported liberalization, where possible, of the seaward boundary of the RCA in order to provide open fishing areas of relatively low canary bycatch to accommodate a shift in fishing effort from nearshore to offshore waters. The benefits of shifting effort offshore are twofold: Since the highest rates of canary bycatch occur in the areas shoreward of the RCA, shifting effort seaward of the RCA further reduces the effort in the nearshore areas that remain open, thus reducing the amount of canary rockfish caught in those areas; and some displaced vessels whose effort was concentrated in the areas that are now closed may be able to shift their effort seaward of the RCA and remain in the fishery.

Trawl fishing opportunities seaward of the trawl RCA are primarily constrained by measures intended to minimize the incidental catch of darkblotched rockfish. Data from the NMFS trawl survey, logbook data, and anecdotal information from the trawl industry shows that various target species and darkblotched rockfish are found in shallower depths in the north and move deeper toward the south. The Council considered changes to the seaward boundary of the RCA within the context of allowing increased fishing opportunity while maintaining protections for darkblotched rockfish. Dividing the seaward boundary of the RCA at Cascade Head (45°03.83′ N. lat.) allows more refined area management in response to the depth-based shift in abundance from north to south of darkblotched rockfish and target species. North of Cascade Head, target species and darkblotched rockfish are more abundant in shallower water, so the seaward boundary of the RCA can be shifted shoreward to allow increased targeting opportunity while still protecting darkblotched rockfish. South of Cascade Head, target species and darkblotched rockfish are more abundant in deeper water, so only minor adjustments to the seaward boundary of the RCA, which remains similar to what was in place at the beginning of 2007, provides targeting opportunity while still protecting darkblotched rockfish.

Based on the information and analysis described above, the Council recommended and NMFS is implementing the following changes to the trawl RCA north of 40°10.00′ N. lat.: North of Cape Alava, and between Cape Arago and Humbug Mountain, the shoreward boundary of the RCA is shifted to the shore, closing the area shoreward of the RCA for the remainder of 2007; between Leadbetter Point and the Oregon/Washington border, the shoreward boundary is shifted shoreward to a line approximating the 60-fm (110-m) depth contour from April 1 through October 31; unless otherwise specified above, the RCA will have a shoreward boundary of a line approximating the 75-fm (137-m) depth contour from April 1 through December 31, 2007; north of Cascade Head, the seaward boundary of the trawl RCA is shifted shoreward to a line approximating the 150-fm (274-m) depth contour from April 1 through August 31, 2007; north of Cascade Head, the seaward boundary of the RCA will remain at a line approximating the 200-fm (366-m) depth contour from September 1 through October 31, 2007; south of Cascade Head, the seaward boundary of the RCA will be shifted shoreward to a line approximating the 200-fm (366-m) depth contour from April 1 through April 30, and remain at the 200-fm (366-m) depth contour through October 31, 2007; north of 40°10.00′ N. lat., the seaward boundary of the RCA will be shifted shoreward to a line approximating the petrale-modified 200-fm (366-m) depth contour from November 1 through December 31, 2007.

Limited Entry Trawl Trip Limits

In addition to area closures, the Council determined that cumulative limits in the limited entry trawl fishery north of 40°10.00′ N. lat. should be modified to: Reduce effort and catch of target species in order to reduce impacts on co-occurring canary rockfish and prevent exceeding the 2007 canary rockfish OY; constrain the effect of any fleet movement away from canary rockfish grounds and into darkblotched rockfish grounds; and reduce the early 2007 rate of petrale sole catch in order to allow more petrale sole to be available for harvest later in the 2007 season.

The Council considered various combinations of cumulative limit adjustments paired with RCA modifications and area closures to reduce impacts to canary rockfish. As with the RCA boundary revisions, the Council's GMT analyzed revisions to trip limits intended to shift fishing effort away from areas where canary rockfish are more commonly taken as bycatch. The GMT recommended that the Council consider reducing sablefish and Dover sole opportunity for vessels using selective flatfish trawl gear, in order to provide for a disincentive to fish in areas where canary rockfish are found and to shift effort away from areas with a relatively high canary rockfish bycatch rate. Reductions in petrale sole opportunities were primarily driven by the need to slow the catch of petrale sole, but this adjustment also results in lower impacts on canary rockfish compared to status quo measures.

Given the need to reduce overall catch and to result in lower predicted canary rockfish impacts than under current management measures, the GMT also recommended combining the arrowtooth and Other Flatfish cumulative limits to enable fishermen to better vary their target strategy while still gaining the benefit of reducing canary rockfish impacts. GMT estimates showed that this approach allows for greater opportunities for those particular target strategies, but that the total catch, and thus overfished species impacts, are less than if separate cumulative limits were applied.

Based on these analyses and recommendations the Council recommended and NMFS is implementing a decrease in the limited entry selective flatfish trawl fishery cumulative limits north of 40°10.00′ N. lat. beginning May 1: For sablefish from “8,000 lb per two months” to “5,000 lb per two months” through December 31, 2007; for Dover sole from “40,000 lb per two months” to “38,000 lb per two months” through October 31, 2007 and from “40,000 lb per two months” to “25,000 lb per two months” through December 31, 2007; and for petrale sole, from “25,000 lb per two months” to “20,000 lb per two months” through August 31, 2007, to “15,000 lb per two months” from September 1 through October 31, and to “8,000 lb per two months” from November 1 through December 31, 2007. The Council also recommended and NMFS is implementing, beginning May 1, combining cumulative limits for arrowtooth and Other Flatfish within a single cumulative limit for Other Flatfish (including arrowtooth). For large and small footrope trawl gears, arrowtooth limits are modified from “100,000 lb per two months” and combined within Other Flatfish limits into a combined cumulative limit of “110,000 lb per two months” through December 31, 2007. For selective flatfish trawl gears, arrowtooth limits are modified from “90,000 lb per two months” and combined within Other Flatfish limits into a combined cumulative limit of “70,000 lb per two months” through October 31, 2007. Beginning November 1, the cumulative limit for Other Flatfish, including arrowtooth, taken with selective flatfish trawl gear is reduced from “90,000 lb per two months” to “30,000 lb per two months” through December 31, 2007.

In addition to liberalizing the seaward boundaries of the trawl RCA north of 40°10.00′ N. lat., the Council considered increasing cumulative limits for DTS species and lingcod in areas seaward of the RCA in order to shift more fishing effort to offshore waters. North of 40°10.00′ N. lat., the Council considered increasing limits for lingcod and shortspine thornyheads taken with large and small footrope trawl gears, which are only allowed when fishing seaward of the trawl RCA, to create incentives to fish in areas with lower canary rockfish bycatch rates. South of 40°10.00′ N. lat., the Council considered increasing limits for lingcod taken with large footrope and midwater trawl gears, which are only allowed when fishing seaward of the trawl RCA, to accommodate a shift in effort from shoreward areas, and to reduce discards of non-constraining target species. The Council determined that increasing trip limits for lingcod and shortspine thornyhead would help prevent exceeding the 2007 canary rockfish OY, reduce unnecessary discards, and reduce economic impacts for the following reasons: (1) The shift in effort to areas with lower canary rockfish bycatch rates will reduce total coastwide incidental catch of canary rockfish; (2) it may reduce the economic impacts on vessels displaced by nearshore fishery closures by providing fishing opportunity while also constraining incidental catch of canary rockfish; and (3) it will reduce unnecessary discards of lingcod and shortspine thornyheads.

Increasing incentives to fish seaward of the trawl RCA will increase effort in an area of known darkblotched rockfish abundance; accordingly, the Council considered various ways to mitigate these impacts and prevent exceeding the 2007 darkblotched rockfish OY.

Changes to management measures to constrain the catch of canary rockfish will also affect the incidental catch of darkblotched rockfish and Pacific ocean perch (POP). The incidental catch of darkblotched rockfish is likely to increase compared to predicted impacts under current management measures, and will be caused by a shift in effort away from areas of high canary rockfish bycatch to areas of greater darkblotched rockfish and POP abundance. However, POP is not considered to be a constraining species in the limited entry trawl fishery; the inseason adjustments to management measures implemented by this action are anticipated to keep POP total catch well within its 2007 OY of 150 mt. The Council focused its discussions of various continental slope actions to prevent exceeding the 2007 darkblotched rockfish OY, including modification of the seaward boundary of the trawl RCA, and changes in catch limit opportunities. The Council's GMT analyzed the effects of changes in RCA boundaries, cumulative limit opportunities, and fishing effort on the incidental catch of darkblotched rockfish, and recommended that cumulative limits for slope rockfish be decreased to reduce the impact of greater effort occurring in areas where darkblotched rockfish are found. The combined effects of these actions are predicted to result in a total 2007 catch of darkblotched rockfish that is lower than the 2007 OY. Catch of darkblotched rockfish will be monitored and action can be taken inseason if necessary to modify the trawl RCA and cumulative limits to keep total catch within the 2007 darkblotched rockfish OY.

Based on these analyses and recommendations, the Council recommended and NMFS is implementing an increase in the limited entry trawl fishery cumulative limits taken with large and small footrope trawl gears north of 40°10.00′ N. lat. beginning May 1 through December 31, 2007: For lingcod from “1,200 lb per two months” to “4,000 lb per two months”; and for shortspine thornyheads from “7,500 lb per two months” to “10,000 lb per two months”. South of 40°10.00′ N. lat., limited entry trawl fishery cumulative limits for lingcod taken with large footrope and midwater trawl gears will increase, beginning May 1 through December 31, 2007, from “1,200 lb per two months” to “4,000 lb per two months”. The Council also recommended and NMFS is implementing a decrease in the limited entry trawl fishery cumulative limits for minor slope and darkblotched rockfish north of 40°10.00′ N. lat., beginning May 1 through December 31, 2007, from “4,000 lb per two months” to “1,500 lb per two months”.

In early February 2007, NMFS received preliminary fishery data showing higher than expected limited entry trawl landings of petrale sole. NMFS estimated that the catch of petrale sole could be 1,200 mt out of a coastwide OY of 2,499 by the end of February. On February 9, NMFS issued a public notice asking for industry cooperation in reducing petrale sole catch to keep petrale sole from exceeding the 2007 OY, and still allow for management flexibility to keep petrale sole fishing opportunities throughout the calendar year. As a result of this voluntary action, significant reductions in catch occurred during the remainder of February and petrale sole catch was estimated to be between 850 and 900 mt at the end of February. In an effort to slow the catch of petrale sole, to prevent exceeding the 2007 OY, and allow petrale sole target opportunities through the end of 2007, the Council considered reductions of petrale sole cumulative limits in the limited entry trawl fishery. Industry representatives indicated that petrale sole limits less than 20,000 lbs (9,072 kg) per two months were not economically sustainable, given the cost of fuel needed to access that catch. The Council also considered the effects of petrale sole cumulative limit reductions on the bycatch of canary rockfish.

Based on these analyses and information, the Council recommended and NMFS is implementing a decrease in the limited entry trawl fishery cumulative limits for petrale sole north of 40°10.00′ N. lat.: Beginning May 1 through October 31, 2007, from “25,000 lb per two months” to “20,000 lb per two months”; and beginning November 1 through December 31, 2007, from “50,000 lb per two months” to “30,000 lb per two months”. South of 40°10.00′ N. lat., beginning May 1 through October 31, 2007, the Council recommended and NMFS is implementing reductions in cumulative limits for petrale sole from “30,000 lb per two months” to “25,000 lb per two months”.

Washington's Recreational Groundfish RCA

The States of Washington and Oregon manage canary and yelloweye rockfish under a joint harvest guideline for their recreational fisheries. The states modify portions of their recreational fisheries, through inseason adjustment to state regulations, in order to keep catch within the harvest guidelines for canary and/or yelloweye rockfish.

During 2005, after receiving inseason recreational catch data, the Washington Department of Fish and Wildlife's (WDFW) revised catch projections for the year indicated that the state harvest targets for canary and yelloweye rockfish would be prematurely attained, and WDFW took action to prevent exceeding the Washington/Oregon harvest guidelines for these species. For 2006, new Washington recreational management measures were adopted to avoid early canary and yelloweye rockfish harvest guideline attainment. During development of the 2007-2008 groundfish specifications and management measures, WDFW identified additional RCA restrictions that could be in place if needed, based on harvest data through 2005. These additional restrictions were adopted by the Council and implemented by NMFS in the final rule for the 2007-2008 groundfish specifications and management measures (71 FR 78638). New 2006 harvest estimates, based on data collected in WDFW's Ocean Sampling Program, indicated that the Washington recreational fishery stayed well below their portion of the 2006 Oregon/Washington harvest guidelines, harvesting 1.28 mt of canary and 1.70 mt of yelloweye (out of the 2006 Oregon/Washington harvest guidelines of 8.5 mt and 6.7 mt for canary and yelloweye rockfish, respectively). The 2007 Oregon/Washington canary and yelloweye rockfish harvest guidelines are 8.2 mt and 6.8 mt, respectively. At the March 2007 meeting, WDFW requested that the duration of the closure of the Washington recreational RCAs be shortened for 2007 and 2008 to reduce the adverse impacts on Washington's coastal communities from the additional restrictions implemented as part of the 2007-2008 specifications and management measures. Compared to the duration of the Washington recreational RCAs implemented in the 2007-2008 specifications, the 2007-2008 closure north of Queets River will be 20 days shorter and between the Queets River and Leadbetter Point, the 2007-2008 closure will be 46 days shorter. Based on data from the 2006 Washington recreational fisheries, the revised RCA restrictions are still expected to constrain total catch of canary and yelloweye rockfish to stay within the shared Oregon and Washington harvest guidelines.

Therefore, the Pacific Council recommended and NMFS is implementing: (1) A prohibition of groundfish fishing in the Washington recreational fishery, north of the Queets River and seaward of a line approximating the 20-fm (37-m) contour from May 21-September 30, except on days when the Pacific halibut fishery is open in this area; and (2) a prohibition of groundfish fishing in the Washington recreational fishery, between the Queets River and Leadbetter Point seaward of a line approximating the 30-fm (55-m) contour from March 17-June 15, except retention of sablefish and Pacific cod is allowed from May 1-June 15.

Classification

This final rule has been determined to be not significant for purposes of Executive Order 12866.

Final Whiting Specifications for 2007 and Inseason Adjustments to Fishery Management Measures

The final whiting specifications and management measures for 2007 are issued under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to the 2007 Pacific whiting specifications under 5 U.S.C. 553(b)(B) because notice and comment would be impracticable and contrary to the public interest. Also for the same reasons, NMFS finds good cause to waive the 30-day delay in effectiveness pursuant to 5 U.S.C. 553(d)(3), so that this final rule may become effective as close as possible to the April 1, 2007, fishery start date.

The proposed rulemaking to implement the 2007 specifications and management measures, published on September 29, 2006 (71 FR 57764), first explained the need to delay adopting the whiting ABC and harvest specifications until after the March 2007 and March 2008 Council meetings. NMFS requested public comment on the proposed rule through October 31, 2006. The final rule, published on December 29, 2006 (71 FR 78638), again explained the range in the specifications and that the final OY and ABC would be recommended at the Council's March 2007 and 2008 meetings.

The FMP requires that fishery specifications be evaluated periodically using the best scientific information available. Every year NMFS does a stock assessment in which U.S. and Canadian scientists cooperate. The 2007 stock assessment for whiting was prepared in early 2007, the earliest possible time to conduct an assessment incorporating 2006 data. Whiting differs from other groundfish species in that it has a shorter life span and the population exhibits greater recruitment variability. Thus, it is important to use the most recent fisheries and survey data in stock assessment when determining ABC and OY. Because of the timing of the assessment, the results are not available for use in developing the new ABC and OY until just before the Council's annual March meeting. The Council made its recommendations at its March 5-9, 2007 meeting in Sacramento, CA.

For the actions to be implemented in this final rule, affording the time necessary for prior notice and opportunity for public comment would prevent the Agency from managing the Pacific whiting and related fisheries using the best available science by approaching without exceeding the OYs for federally managed species. The adjustments to management measures in this document affect commercial trawl fisheries off Washington, Oregon, and California and recreational fisheries off Washington. These adjustments to management measures must be implemented immediately to: Prevent exceeding the 2007 OYs for petrale sole, widow rockfish, and canary rockfish; prevent premature closure of fisheries; and eliminate confusion for the public and to improve enforcement by ensuring that Federal and state recreational regulations conform to each other.

Changes to the cumulative limits in the limited entry trawl fishery and to the trawl RCA are needed to reduce the projected bycatch of canary rockfish, a groundfish species that is currently subject to rebuilding requirements. The projected bycatch of canary rockfish must be reduced in order to keep coastwide fisheries from exceeding that species's rebuilding OY. Changes to the trawl RCA to reduce the bycatch of canary rockfish must be implemented as close as possible to the April 1, 2007 start of the fishing season so that the total catch of canary rockfish stays within its 2007 OY, as defined in the rebuilding plan for this species. Changes to petrale sole cumulative limits in the limited entry trawl fishery must be implemented in a timely manner by May 1, 2007, so that harvest of petrale sole stays within the harvest levels projected for 2007 and so that petrale sole catch is available for harvest for as long as possible throughout the year.

Changes to the non-tribal whiting widow rockfish bycatch limit must be implemented as close as possible to the start of the California whiting fishery, on April 1, 2007. Ensuring that the bycatch limit is in place by the season start date provides an opportunity for participants in this fishery to catch the available whiting quota without reaching or exceeding the bycatch limit of widow rockfish or its OY, prematurely closing the fishery.

Changes to the Washington recreational groundfish RCA must be implemented in a timely manner by May 1, 2007, to allow the recreational fishermen to fish in the newly opened area in the EEZ, in order to eliminate confusion for the public, and to improve enforcement by ensuring that Federal and state recreational regulations conform to each other.

These revisions are needed to protect overfished groundfish species and to keep the harvest of other groundfish species within the harvest levels projected for 2007, while allowing fishermen access to healthy stocks. Without these measures in place, the fisheries could risk exceeding harvest levels early in the year, causing early and unanticipated fishery closures and economic harm to fishing communities. Delaying these changes would keep management measures in place that are not based on the best available data and which could lead to early closures of the fishery if harvest of groundfish exceeds levels projected for 2007. Such delay would impair achievement of one of the Pacific Coast Groundfish FMP objectives of providing for year-round harvest opportunities or extending fishing opportunities as long as practicable during the fishing year. In addition, it is also in the public interest to implement the recreational measures in this notice as soon as possible to improve enforcement and eliminate confusion for the public by removing differences between different regulations that affect the same waters and fisheries.

The environmental impacts associated with the Pacific whiting harvest levels being adopted by this action are considered in the final environmental impact statement for the 2007-2008 specifications and management measures. Copies of the FEIS and the ROD are available from the Council (see ADDRESSES).

Pursuant to Executive Order 13175, this action was developed after meaningful consultation and collaboration with tribal officials from the area covered by the FMP. Under the Magnuson-Stevens Act at 16 U.S.C. 1852(b)(5), one of the voting members of the Council must be a representative of an Indian tribe with federally recognized fishing rights from the area of the Council's jurisdiction. In addition, regulations implementing the FMP establish a procedure by which the tribes with treaty fishing rights in the area covered by the FMP request new allocations or regulations specific to the tribes, in writing, before the first of the two meetings at which the Council considers groundfish management measures. Only the Makah Tribe requested a whiting allocation for 2007. The regulations at 50 CFR 660.324(d) further state “the Secretary will develop tribal allocations and regulations under this paragraph in consultation with the affected tribe(s) and, insofar as possible, with tribal consensus.” The tribal whiting allocation finalized by this final rule was recommended by the Council based on the sliding scale allocation formula described above.

List of Subjects in 50 CFR Part 660

Fishing, Fisheries, and Indian fisheries.

Dated: April 11, 2007.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq.

2. In § 660.373, paragraph (b)(4) is revised to read as follows:

§ 660.373 Pacific whiting (whiting) fishery management.

* * * * *

(b) * * *

(4) Bycatch limits in the whiting fishery. The bycatch limits for the whiting fishery may be used in season to close a sector or sectors of the whiting fishery to achieve the rebuilding of an overfished or depleted stock, under routine management measure authority at § 660.370(c)(1)(ii). These limits are routine management measures under § 660.370(c) and, as such, may be adjusted inseason or may have new species added to the list of those with bycatch limits. The whiting fishery bycatch limits for the sectors identified in § 660.323(a) are: 4.7 mt of canary rockfish; 220 mt of widow rockfish; and 25 mt of darkblotched rockfish.

* * * * *

3. In § 660.384, paragraphs (c)(1)(i)(C)(1) and (2) are revised to read as follows:

§ 660.384 Recreational fishery management measures.

* * * * *

(c) * * *

(1) * * *

(i) * * *

(C) * * *

(1) Between the U.S. border with Canada and the Queets River, recreational fishing for groundfish is prohibited seaward of a boundary line approximating the 20-fm (37-m) depth contour from May 21 through September 30, except on days when the Pacific halibut fishery is open in this area. Days open to Pacific halibut recreational fishing off Washington are announced on the NMFS hotline at (206) 526-6667 or (800) 662-9825. Coordinates for the boundary line approximating the 20-fm (37-m) depth contour are listed in § 660.391.

(2) Between the Queets River and Leadbetter Point, recreational fishing for groundfish is prohibited seaward of a boundary line approximating the 30-fm (55-m) depth contour from March 17, 2007, through June 15, 2007, except that recreational fishing for sablefish and Pacific cod is permitted within the recreational RCA from May 1 through June 15. In 2008, recreational fishing for groundfish is prohibited seaward of a boundary line approximating the 30-fm (55-m) depth contour in from March 15, 2008, through June 15, 2008, except that recreational fishing for sablefish and Pacific cod is permitted within the recreational RCA from May 1 through June 15. Coordinates for the boundary line approximating the 30-fm (55-m) depth contour are listed in § 660.391.

* * * * *

4. Table 1a to part 660 subpart G is revised to read as follows.

BILLING CODE 3510-22-P

5. Tables 3 (North) and 3 (South) to part 660 subpart G are revised to read as follows.

BILLING CODE 3510-22-P

[FR Doc. 07-1917 Filed 4-17-07; 8:45 am]

BILLING CODE 3510-22-C